DEPARTMENT OF HEALTH AND HUMAN SERVICES

Centers for Disease Control and Prevention

Advisory Committee on Childhood Lead Poisoning Prevention (ACCLPP): Meeting

In accordance with section 10(a)(2) of the Federal Advisory Committee Act (Pub. L. 92-463), the National Center for Environmental Health (NCEH) of the Centers for Disease Control and Prevention (CDC) announces the following committee meeting.

Name: Advisory Committee on Childhood Lead Poisoning Prevention.

Times and Dates: 8:30 a.m.-5 p.m., March 22, 2005; 8:30 a.m.-12:30 p.m., March 23, 2005.

Place: Sheraton New Orleans Hotel, 500 Canal Street, New Orleans, LA 70130, Telephone: (504) 595-6211 or toll free 1-888-627-7033.

Status: Open to the public, limited only by the space available. The meeting room accommodates approximately 75 people.

Purpose: The Committee provides advice and guidance to the Secretary; the Assistant Secretary for Health; and the Director, CDC, regarding new scientific knowledge and technological developments and their practical implications for childhood lead poisoning prevention efforts. The committee also reviews and reports regularly on childhood lead poisoning prevention practices and recommends improvements in national childhood lead poisoning prevention efforts.

Matters To Be Discussed: Update on the Lead and Pregnancy Workgroup Agenda activities, ACCLPP process for work group projects, updates of the clinical and public health implications of adverse health effects of blood lead levels less than 10 μg/dL.

Agenda items are subject to change as priorities dictate.

Opportunities will be provided during the meeting for oral comments. Depending on the time available and the number of requests, it may be necessary to limit the time of each presenter.

For Further Information Contact: Crystal M. Gresham, Program Analyst, Lead Poisoning Prevention Branch, Division of Emergency and Environmental Health Services, NCEH, CDC, 4770 Buford Hwy, NE., M/S F-40, Atlanta, Georgia 30341, telephone (770) 488-7490, fax (770) 488-3635.

The Director, Management Analysis and Services Office has been delegated the authority to sign Federal Register notices pertaining to announcements of meetings and other committee management activities for both CDC and the Agency for Toxic Substances and Disease Registry.

Dated: December 30, 2004.
B. Kathy Skipper,
Director, Management Analysis and Services Office, Centers for Disease Control and Prevention.

[FR Doc. 05-271 Filed 1-5-05; 8:45 am]

BILLING CODE 4163-18-P